DEPARTMENT OF DEFENSE

Department of the Air Force

[Docket ID: USAF-2019-HQ-0002]

Proposed Collection; Comment Request

AGENCY: Department of the Air Force DoD.

ACTION: Information collection notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 15, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact Jeffrey Richer, Building 1606, 9 Eglin Street, Hanscomb AFB, MA 01731-2100, ATTN: EMNS Program; Phone 781-225-4319; Email AFLCMC.HNII.EMNS@us.af.mil.

SUPPLEMENTARY INFORMATION:

Title; Associated Form; and OMB Number: Emergency Mass Notification System (EMNS); OMB Control Number 0701-XXXX.

Needs and Uses: The Emergency Mass Notification System is an Air Force enterprise-wide system that employs commercial software to send notices to the AF population through desktop, mobile application, telephone, text messaging alerts, and Giant Voice systems at Main Operating Bases (MOB). This system provides individuals with near-real time notifications sent directly from the AF/MAJCOM/Installation command posts.

This single AF enterprise solution will provide lifesaving and mission protective measures within the AF. The system shall have the capability of delivering reliable and secure emergency threat notifications to all personnel at all AF locations on a 24 hour/7 day a week basis.

EMNS is designated as a National Security System (NSS). EMNS must be maintained as a high integrity, high availability capability vital to operational readiness. The absence of such a system could result in immediate and sustained loss of mission effectiveness.

Affected Public: Individuals and households.

Annual Burden Hours: 16,667.

Number of Respondents: 1,000,000.

Responses per Respondent: 1.

Annual Responses: 1,000,000.

Average Burden per Response: 1 minute.

Frequency: On Occasion.

Dated: February 11, 2019.
Shelly E. Finke,
Alternate OSD Federal Register, Liaison Officer, Department of Defense.

[FR Doc. 2019-02351 Filed 2-13-19; 8:45 am]

BILLING CODE 5001-05-P